DEPARTMENT OF DEFENSE

National Commission on the Use of Offsets in Defense Trade, and President's Council on the Use of Offsets in Commercial Trade

AGENCY: Department of Defense, National Commission on the Use of Offsets in Defense Trade, and President's Council on the Use of Offsets in Commercial Trade.

ACTION: Notice.

SUMMARY: This notice announces a forthcoming meeting of the President's Council on the Use of Offsets in Commercial Trade, a federal advisory committee that is being established by Executive Order. The Council will meet jointly with the parallel National Commission on the Use of Offset in Defense Trade, established by Public Law 106-113. “Offsets” are conditions that a foreign government often negotiates with a U.S. company seeking to export a major defense or commercial system to its country (e.g., military or commercial aircraft), under which the country's firms (a) participate in the production of the system and/or its subsystems, or (b) obtain other technological or economic benefits from the U.S. exporter. The purpose of the meeting is to assess the effect of offsets in both defense and commercial trade on U.S. jobs, U.S. economic competitiveness, and U.S. national security. Due to the expedited set up of this Commission, this posting is being made is less than 15 days before the first meeting date.

DATES: December 4, 2000, 9:30 a.m.—12:00 p.m.

ADDRESSES: Truman room of the White House Conference Center, 726 Jackson Place, N.W., across from the White House on the other side of Pennsylvania Avenue.

FOR FURTHER INFORMATION CONTACT: Jangela Shumskas, phone 703/253-0929, email jshumska@brtrc.com, fax 703/204-9447.

SUPPLEMENTARY INFORMATION: The meeting will be open to members of the public, who should register in advance through the following web site: http://www.offsets.brtrc.net. Although the meeting schedule does not allow oral presentations from the public, we encourage written comments from the public on the issues before the Council and Commission. Please send comments to Jangela Shumskas (jshumska@brtrc.com, fax 703/204-9447) prior to the meeting or within two weeks following the meeting. The meeting agenda will be posted on the Council/Commission web site (http://www.offsets.brtrc.net) during the week of November 27.

Dated: November 22, 2000.
L.M. Bynum
Alternatie Federal Register Liasion Officer, Department of Defense.

[FR Doc. 00-30478 Filed 11-29-00; 8:45 am]

BILLING CODE 5001-10-M